INTERNATIONAL TRADE COMMISSION

[Investigation No. 337-TA-1392]

Certain Oil Vaporizing Devices, Components Thereof, and Products Containing the Same; Notice of the Commission's Final Determination Finding a Violation of Section 337; Issuance of a Limited Exclusion Order and Cease and Desist Orders; Termination of the Investigation

AGENCY: U.S. International Trade Commission.

ACTION: Notice.

SUMMARY: Notice is hereby given that the U.S. International Trade Commission (“Commission”) has found a violation of section 337 in the above-captioned investigation. The Commission has determined to issue a limited exclusion order (“LEO”) prohibiting the unlicensed entry of infringing oil vaporizing devices, components thereof, and products containing the same that are manufactured by or on behalf of, or imported by or on behalf of, the respondents, and cease and desist orders (“CDOs”) against two respondents. The investigation is terminated.

FOR FURTHER INFORMATION CONTACT: B. Rashmi Borah, Esq., Office of the General Counsel, U.S. International Trade Commission, 500 E Street SW, Washington, DC 20436, telephone (202) 205-2518. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on March 6, 2024, based on a complaint filed by Complainant. 89 FR 16025-26 (Mar. 6, 2024). The complaint, as supplemented, alleges violations of section 337 of the Tariff Act of 1930, as amended, 19 U.S.C. 1337 (“section 337”), in the importation into the United States, the sale for importation, or the sale within the United States after importation of certain oil vaporizing devices, components thereof, and products containing the same by reason of infringement of certain claims of U.S. Patent Nos. 11,369,756 (“the '756 patent”); 11,766,527 (“the '527 patent”); 11,369,757 (“the '757 patent”); and 11,759,580 (“the '580 patent”) (together, the “Asserted Patents”). Id. The complaint further alleges that a domestic industry exists. Id. The Commission's notice of investigation named as respondents: STIIIZY IP LLC f/k/a STIIIZY, LLC and STIIIZY, Inc. d/b/a Shryne Group Inc. (collectively, “STIIIZY”); ALD Group Limited; and ALD Hong Kong Holdings (collectively, “ALD”) (together, “Respondents”). Id. The Office of Unfair Import Investigations is not participating in the investigation.

The Commission previously terminated the investigation as to claims 4 and 21 of the '527 patent. Order No. 11 (July 11, 2024), unreviewed by Comm'n Notice (July 30, 2024). The Commission also terminated the investigation as to claims 2, 3, 6-9, and 11-17 of the '756 patent; claims 3-8, 10-12, 14, and 17-19 of the '757 patent; claims 2-3, 6-9, 12-16, 19, 20, 24, 25, and 27-29 of the '527 patent; and claims 2-5, 9, 12-15, and 19 of the '580 patent. Order No. 20 (Sept. 6, 2024), unreviewed by Comm'n Notice (Oct. 7, 2024).

The ALJ held an evidentiary hearing from October 21-23, 2024.

After the hearing, the Commission terminated the investigation as to claims 2, 9, and 16 of the '757 patent; claims 23, 26, and 30 of the '527 patent; and claims 11, 16-18, and 20 of the '580 patent. Order No. 32 (Nov. 8, 2024), unreviewed by Comm'n Notice (Dec. 10, 2024).

As of the issuance of the final initial determination (“FID”), the remaining asserted claims were: claims 1, 5, and 10 of the '756 patent; claims 1, 5, 10, 11, 17, 18, and 22 of the '527 patent; claims 1, 13, 15, and 20 of the '757 patent; and claims 1, 6-8, and 10 of the '580 patent.

On March 6, 2025, the ALJ issued the FID finding no violation of section 337. The FID finds that: the accused STIIIZY-LIIIL, the STIIIZY-1G(C), and the STIIIZY-ORIG-1 products infringe at least one claim of each Asserted Patent; the accused STIIIZY-AIO, the FLARE(C), and the FLARE(V) products each infringe at least one asserted claim of the '527 and '580 patents; the accused ROVE(C) and ROVE(V) products each infringe at least one asserted claim of the '527 patent; the accused STIIIZY Redesigned Products and FLARE-REDESIGNS infringe at least one claim of the '580 patent; the ROVE(C) and ROVE(V) products do not infringe the asserted claims of the '580 patent; and the accused ROVE-REDESIGNS do not infringe any asserted claim. The FID further finds that Respondents induced infringement and contributorily infringed all asserted claims, none of the asserted claims are invalid under 35 U.S.C. 102, 103, and/or 112, ¶ 1, and Complainant has satisfied the technical prong of the domestic industry requirement for all Asserted Patents. The FID finds, however, that Complainant has not satisfied the economic prong of the domestic industry requirement for any of the Asserted Patents. Id.

The FID also includes the ALJ's recommended determination (“RD”) on remedy, the public interest, and bonding should the Commission find a violation of section 337. Specifically, the RD recommends that the Commission issue a limited exclusion order barring entry of STIIIZY's and ALD's products that infringe the asserted claims of the Asserted Patents. The RD also recommends issuing cease and desist orders against STIIIZY, but not against ALD, because ALD does not maintain significant commercial operations in the United States. The RD further recommends that the Commission set a bond of 100 percent for any importations of infringing products during the period of Presidential review.

On March 18, 2025, Complainant filed a petition seeking review of the following findings: (1) that certain accused products do not infringe the asserted claims of the'580 patent; (2) that certain redesigned products do not infringe the asserted claims of the '756, '527, or '757 patent; and (3) that Complainant has not satisfied the economic prong of the domestic industry requirement. On the same day, Respondents filed a petition seeking review of the following findings: (1) that certain redesigned products infringe the asserted claims of the '580 patent under the doctrine of equivalents; (2) that claims 1, 6, or 8 of the '580 patent are not invalid as anticipated; and (3) that Respondents failed to meet their burden to show that a skilled artisan would have been motivated to combine certain prior art references. Respondents also asked the Commission to determine: (1) whether Complainant's investments made while the Complainant was a licensee should be counted under subsections (A) or (B) of the economic prong of the domestic industry requirement; (2) whether Complainant fails to satisfy the economic prong of the domestic industry requirement because Complainant's domestic industry expenditures are based on activities that are illegal under the Controlled Substances Act; and (3) whether Complainant demonstrated that it had a domestic industry on the date the complaint was filed. On March 26, 2025, Complainant and Respondents filed their respective petition responses.

On March 31, 2025, Professor William J. McNichol, Jr., an adjunct professor at Rutgers Law School, submitted a response to the Commission's Federal Register notice seeking public interest submissions. See 90 FR 11851-52 (Mar. 12, 2025). On April 7, 2025, the Complainant and ALD filed their respective submissions on the public interest pursuant to Commission Rule 210.50(a)(4). 19 CFR 210.52(a)(4).

On May 16, 2025, the Commission issued a notice indicating that it was reviewing the FID's findings that: (1) certain accused products do not infringe the '580 patent; (2) certain redesigned products infringe the '580 patent; and (3) Complainant has not satisfied its burden as to the economic prong of the domestic industry requirement. See Comm'n Not. at 3 (May 16, 2025). On review, the Commission determined that “the FID errs by stating as a bright-line rule that `pre-issuance investments [are not] cognizable under subparagraphs (A) and (B) of section 337(a)(3).' ” Id. The Commission remanded the investigation and directed the ALJ to “consider whether Complainant's alleged domestic industry investments were made with respect to the articles protected by the patent (i.e., the products that the FID finds satisfy the technical prong of the domestic industry requirement), not limited by whether those investments were made post-patent issuance.” Remand Order at 4 (May 16, 2025).

On July 18, 2025, the ALJ issued the RID finding that Complainant has satisfied the economic prong of the domestic industry requirement under section 337(a)(3)(A) and (B).

On July 30, 2025, Respondents submitted a petition for review of the RID seeking review of the RID's finding that Complainant was an exclusive licensee to the Asserted Patents before June 28, 2022, and that investments made before that date should count towards Complainant's domestic industry. On August 6, 2025, Complainant submitted a response to Respondents' petition for review.

On September 17, 2025, the Commission determined to review the RID's finding that Complainant has satisfied the economic prong of the domestic industry requirement under prongs (A) and (B). 90 FR at 45411. On review, the Commission affirmed the RID with minor modifications. Id. at 45411-12. The Commission also sought submissions on remedy, the public interest, and bonding from the parties, interested government agencies, and other interested persons. Id. at 45412.

On November 17, 2025, the parties submitted their respective initial submissions on remedy, the public interest, and bonding. On November 24, 2025, the parties submitted their respective replies. The Commission also received a second submission from Professor McNichol, Jr., in response to the Commission's September 17, 2025 Federal Register notice.

Having examined the record in this investigation, including the FID, the parties' petitions for review, the responses thereto, and the submissions to the Commission regarding remedy, the public interest, and bonding, the Commission has determined to find a violation of section 337 as to all of the Asserted Patents. As set forth in the simultaneously-issued Commission opinion, the Commission reverses the FID's finding that the ROVE(C), ROVE(V), ROVE-REDESIGN(C), and ROVE-REDESIGN(V) do not infringe any of asserted claims 1, 6-8, and/or 10 of the '580 patent. The Commission also affirms with supplemental reasoning the FID's finding that the STIIIZY-1G-REDESIGN(C), STIIIZY-ORIG-1G-REDESIGN, and the STIIIZY-AIO-REDESIGN infringe claims 1, 6-8, and/or 10 of the '580 patent.

The Commission has determined that the appropriate form of relief is an LEO prohibiting the unlicensed entry of infringing oil vaporizing devices, components thereof, and products containing the same that are manufactured by or on behalf of Respondents or any of their affiliated companies, parents, subsidiaries, or other related business entities, or their successors or assigns. The Commission has also determined to issue CDOs against STIIIZY.

The Commission has further determined that the public interest factors enumerated in subsections (d)(l) and (f)(1) (19 U.S.C. 1337(d)(l), (f)(1)) do not preclude issuance of the above-referenced remedial orders. Additionally, the Commission has determined to impose a bond in the amount of one hundred percent (100%) of the infringing products imported during the period of Presidential review (19 U.S.C. 1337(j)).

The investigation is terminated.

The Commission vote for this determination took place on January 20, 2026.

The authority for the Commission's determination is contained in section 337 of the Tariff Act of 1930, as amended (19 U.S.C. 1337), and in Part 210 of the Commission's Rules of Practice and Procedure (19 CFR part 210).

By order of the Commission.
Issued: January 20, 2026.
Lisa Barton,
Secretary to the Commission.

[FR Doc. 2026-01231 Filed 1-22-26; 8:45 am]

BILLING CODE 7020-02-P